DEPARTMENT OF JUSTICE

Antitrust Division

Notice Pursuant to the National Cooperative Research and Production Act of 1993; DVD Copy Control Association (“DVD CCA”)

Notice is hereby given that, on January 6, 2004, pursuant to Section 6(a) of the National Cooperative Research and Production Act of 1993, 15 U.S.C. 4301 et seq. (“the Act”), DVD Copy Control Association (“DVD CCA”) has filed written notifications simultaneously with the Attorney General and the Federal Trade Commission disclosing changes in its membership status. The notifications were filed for the purpose of extending the Act's provisions limiting the recovery of antitrust plaintiffs to actual damages under specified circumstances. Specifically, Advanced Media Technology Co., Ltd., Seongnam-City, Republic of Korea; AMX Corporation, Richardson, TX; Conexant Systems, Inc., San Diego, CA; DCM, Digital Communication Media AB, Kista, Sweden; Digipack Optical Disc, SA, Beriain, Spain; Eastern Asia Technology Limited, Singapore, Singapore; Ellion Digital Inc., Kyonggi-do, Republic of Korea; Pinnacale Systems, GmbH, Braunschweig, Germany; OSM LLC, Rochester, NY; Sandmartin Zhongshan Electronic Co., Ltd., Guangdong, People's Republic of China; SoundMax Electronics Ltd., Hong Kong, Hong Kong-China; and WIS Technologies, Inc., San Jose, CA have been added as parties to this venture.

Also, ATL Electronics (M)Sdn. Bhd., Kedah, Malaysia; and ViXS Systems In., Toronto, Ontario, Canada have been dropped as parties to this venture.

No other changes have been made in either the membership or planned activity of the group research project. Membership in this group research project remains open, and DVD CCA intends to file additional written notifications disclosing all changes in membership.

On April, 11, 2001, DVD CCA filed its original notification pursuant to Section 6(a) of the Act. The Department of Justice published a notice in the Federal Register pursuant to Section 6(b) of the Act on August 3, 2001 (66 FR 40727).

The last notification was filed with the Department on October 8, 2003. A notice was published in the Federal Register pursuant to Section 6(b) of the Act on November 12, 2003 (68 FR 64124).

Dorothy B. Fountain,
Deputy Director of Operations, Antitrust Division.

[FR Doc. 04-3064 Filed 2-11-04; 8:45 am]

BILLING CODE 4410-11-M